FEDERAL DEPOSIT INSURANCE CORPORATION

12 CFR Part 325

Capital Maintenance

CFR Correction

In Title 12 of the Code of Federal Regulations, Parts 300 to 499, revised as of January 1, 2015, on page 406, in § 325.203, in paragraph (b)(3), the following phrase is added to the last sentence: “nonmember bank or state savings association becomes a covered bank.”

[FR Doc. 2015-33048 Filed 12-30-15; 8:45 am]

BILLING CODE 1505-01-D